OFFICE OF PERSONNEL MANAGEMENT

Submission for OMB Review; Comment Request for a Revised Information Collection: SF-15 Application for 10-Point Veteran Preference

AGENCY: Office of Personnel Management.

ACTION: 30-Day Notice of Information Collection Under Review: Form SF-15, Application for 10-Point Veteran Preference; OMB Control Number 3206-0001.

SUMMARY: The Office of Personnel Management (OPM) has submitted the following information collection request to the Office of Management and Budget (OMB) for review and clearance in accordance with the Paperwork Reduction Act of 1995 (PRA). The information collection was previously published in the Federal Register Volume 72, Number 17, page 3880 on January 26, 2007, allowing for a 60 day comment period on the Standard Form 15 (SF-15) Application for 10-Point Veteran Preference.

The purpose of this Notice is to allow for an additional 30 days for public comments. This process is in accordance with 5 CFR 1320.10.

The SF-15 is used by agencies, OPM examining offices, and agency appointing officials to adjudicate individuals' claims for veterans' preference in accordance with the Veterans' Preference Act of 1944. Approximately 11,252 forms were completed last year. Each form requires approximately 10 minutes to complete. The annual estimated burden is 1,875 hours.

In the 60-Day Notice published January 26, 2007, OPM announced our request for clearance for the SF-15 and invited public comments. OPM received 14 comments by the closing date on March 27, 2007. A discussion of the comments is provided below.

One commenter asked why we were reviewing the SF-15. The purpose of reviewing the SF-15 is to seek public comment concerning whether the content and questions still serve their intended purposes. Primarily, we are reviewing the form to see whether the form should be simplified.

One commenter asked OPM to maintain the SF-15 in its current form without changes because the instructions are simple. We will consider this comment, but we will also review all other collected comments and accept proposed changes that we conclude will improve the form.

We received comments from three individuals and two veteran service organizations (VSOs) recommending that OPM continue to use the form. Another commenter asked whether this review process was intended to remove 10-point veterans' preference for disabled veterans seeking Federal employment. OPM is not removing the SF-15 form from use. The SF-15 is a useful information collection instrument that enables disabled veterans and those seeking entitlement for derived preference (e.g., spouses, widows, and mothers) to select the particular type of preference depending on their individual circumstances. Agencies use the information on the form to adjudicate claims for veterans' preference, in part by identifying the basis on which each individual is claiming entitlement to preference (e.g., ten-point (non-compensable disability); ten-point (compensable disability); ten-point (spouse); ten-point (widow or widower); ten-point (mother, deceased veteran); and ten-point (mother, disabled veteran).

One commenter noted that the SF-15 is dated December 2004 and has no expiration date and questioned why we were seeking re-clearance. Under the PRA, OMB requires continuing approval for the use of any information collection (e.g., forms, surveys). OPM submits a periodic request (every three years) for approval by OMB to continue the use of the SF-15 form. The Notice informs the public, as required by law, that we are reviewing the form and will consider any questions and comments regarding its content and use.

One commenter asked why VSO liaison members who regularly meet with OPM were not notified in advance of this Notice. Another individual suggested that the Department of Veterans Affairs (DVA) should be queried for their input in reviewing the form. The purpose of publishing revisions in advance and establishing a comment period is to provide interested parties with an opportunity to comment on proposed revisions. We welcome comments from VSOs, the DVA, and any other individual or organization that wishes to comment. Pursuant to this notice, we are now providing an additional 30 days for interested parties to comment.

One VSO submitted a consolidated listing of questions and recommendations from its constituents, addressing the content and design of the SF-15 form. Their first question was whether the full social security number (SSN) was needed on the form and if so, could it be masked to protect an individual from identity theft. We agree protection of applicants' SSNs is important and have removed those blocks on the SF-15 that specifically ask for the SSN.

Another individual asked who processes the SF-15 after an individual completes it. Once the SF-15 is completed by the applicant, the applicant sends the SF-15 to the agency to which the individual is applying.

One commenter wanted to know who signs the SF-15 at the bottom of the form in the block: Signature of Appointing Officer. This block is signed by the Federal agency's designated Appointing Officer if the applicant is selected for employment.

One commenter questioned the use of the term “burden” as used in the Notice. Americans spend incalculable hours each year providing information to Federal agencies by filling out forms, surveys, and or questionnaires. A major aim of the PRA is to minimize the “burden”—a term used in the law—which the information collection imposes on the public. Under the PRA, OMB must approve all such information collections and has broad authority over annual Governmentwide paperwork reduction goals established by law. Generally, when a Federal agency seeks to collect information from ten or more people, OMB must approve the collection. Information collections that fall under OMB's purview include application forms, questionnaires, surveys, and reporting or recordkeeping requirements. The total “annual burden hours” and “annual burden dollars” for each such form are tracked by OMB and monitored by Congress.

Another commenter wanted to know whether the SF-15 is used to collect data for statistical or census purposes. The information on the SF-15 form is used for identifying the individual's claim to the type of veterans' preference entitlement on the form. OPM uses data from the SF-15 to identify the number of persons employed and entitled to the various types of veterans' preference.

One commenter asked if there is a general clearinghouse to maintain all the SF-15's so veterans do not have to keep filling out the form each time they apply for a Federal job. OPM does not maintain a clearinghouse on all SF-15's. Agencies may do this as a part of their applicant supply files, but are not required to do so. Agencies are required to keep all hiring records for two years but are not required to match an SF-15 already on file with a new application.

One group of veterans collectively submitted their recommendations to revise the content on the SF-15 form. These recommendations are as follows:

Page 1 of the Standard Form 15, Block 2: delete three (e.g., civil service exam, postal exam, and position you currently occupy) of the four areas and use the block only for the job announcement number. We have considered this recommendation and do not concur. Block 2 has multiple uses that are still valid today (e.g., identifying an exam that was recently taken or notifying an agency that a current employee is changing his or her entitlement to veterans' preference based on a call-up for military service that resulted in a service-connected disability). Removing the three areas (e.g., civil service exam, postal exam, and position you currently occupy) would limit the form to only those applying for specific job announcements.

Block 5: drop the “Date exam was held” and use the block only for the “Date the application was submitted” to the agency. We do not concur with the recommendation. As long as we are retaining a reference to an exam in Block 2, we should retain a reference to an exam here as well. The applicant can select his or her choice in Block 5 and provide the date as applicable.

Blocks 4 (SSN), 7 (Service Number), 8 (SSN), and 9 (VA Claim Number) are asking the applicant to provide potentially the same information and the group recommended consolidating these four blocks. We have considered the recommendation and find Blocks 7 and 9 should remain on the form. We have removed Blocks 4 and 8 that asked for an SSN and have renumbered all applicable blocks on the SF-15.

The group recommended that OPM be cognizant of visually impaired disabled veterans and increase the size of text on the form. We concur and will increase the smaller size font used on the SF-15. We wish to remind readers that a fillable version of the updated form will be available on the OPM Web site (http://www.opm.gov/forms/pdf_fill/SF15.pdf). Anyone completing this version of the form can adjust the font size as needed.

The group recommended using one line for stating the full title of the form (Application for 10-Point Veterans Preference) instead of the title being separated into two lines. We agree. We have changed the title of the form to be on one line.

One suggestion was that OPM replace Block 10 with Block 11, because many of the veterans currently filling out this form are rated by VA as 30% or higher disabled and this being the first block would provide a more user-friendly format for efficiency and effectiveness purposes. We have considered this recommendation, but decided not to change the order in which these blocks appear. The flow of information on the form begins in Block 10 (now renumbered as Block 8), with those veterans entitled to veterans' preference based on non-compensable service-connected disabilities of less than 10% followed by Block 11 (now Block 9), used by those veterans who are in receipt of or eligible for compensation based on service-connected disabilities rated as 10% or more.

The group recommended adding “at 30% or greater” in Block 11 after “compensation from the VA” We agree that adding a percentage to this sentence assists veterans to understand that Block 11 is for those receiving compensation. As compensation is provided to those service men and women rated as 10% or more disabled as a result of service-connected injuries, we have added “of 10% or more” to what is now Block 9.

The group recommended adding “dashes and arrows” to Blocks 12, 13, and 14 to connect the narrative with the questions, similar to what was done in Blocks 10 and 11. We disagree, as adding dashes and arrows to Blocks 12, 13, and 14 would clutter this area of the document potentially making it harder for the applicant to read in completing this form.

The group recommended moving the statement “This form must be signed by all persons claiming 10-Point preference,” which appears at the lower right side of the form, and placing it directly under the statement “I certify that all of the statements made in this claim * * *” block on the lower left side of the page. We agree and revised the form accordingly.

The group also recommended moving the block containing the statement “Preference entitlement was verified” to the space where the block containing the statement “This form must be signed by all persons claiming 10-Point preference” was previously located. We agree and the SF-15 shows we have changed the form.

The group recommended moving the “For Use by Appointing Officer only” and placing this under the “Preference entitlement was verified” block. We agree and the SF-15 shows we have changed the form.

The group recommended increasing the font size of “Signature of person claiming preference.” We agree and have changed both signature blocks on the form.

One commenter asked why page 2 contains questions 1 and 2 when that information is already provided in the applicant's resume. The SF-15 is a summarized document that readily assists both the veteran and the agency in reviewing the correct documents for adjudicating veterans' preference. By asking these two questions on the form, the agency saves time and effort in not having to research the resume or application in finding this information.

One commenter questioned why we are requiring the information requested in Block 3 and Block 4 at the bottom of page 2. The primary reason for asking these two questions is to enable the agency to identify the employability of the disabled veteran and entitlement of the spouse to receive derived preference. If a disabled veteran is disqualified for a Federal position along the general lines of his or her usual occupation because of a service-connected disability, and if the spouse of the disabled veteran has competed for a Federal position, then the spouse is entitled to have ten points added to a passing examination score or rating. Such a disqualification may be presumed when the veteran is unemployed and is rated by the appropriate military or Department of Veterans Affairs authority to be 100 percent disabled and/or unemployable; has retired, been separated, or resigned from a civil service position on the basis of a disability that is service-connected in origin; or has attempted to obtain a civil service position or other position along the lines of his or her usual occupation and has failed to qualify because of a service-connected disability. These two questions identify these occupations and further assist the agency in adjudicating the claim to the particular veterans' preference sought.

One commenter recommended shifting the “Privacy Act statement” from the bottom of Page 1 to the bottom of Page 2. We have considered this recommendation and find that the Privacy Act and Public Burden Statement is best located on the front page with the majority of information collected.

For copies of this proposal, contact Mary Beth Smith-Toomey on (202) 606-8358, Fax (202) 418-3251 or e-mail to mbtoomey@opm.gov. Please include a mailing address with your request.

DATES: Comments on this proposal should be received within 30 calendar days from the date of this publication August 7, 2007.

ADDRESSES: Written comments and or suggestions regarding this notice should be directed to: Karen Jacobs, Acting Deputy Associate Director, Center for Talent and Capacity, U.S. Office of Personnel Management, 1900 E Street, NW., Room 6551, Washington, DC 20415; and Brenda Aguilar, OPM Desk Officer, Office of Information & Regulatory Affairs, Office of Management & Budget, New Executive Office Building NW., Room 10235, Washington, DC 20503.

For Administrative Coordination Contact: Scott A. Wilander by telephone at (202) 606-0960; by fax at (202) 606-0390; TTY at (202) 606-3134; or by e-mail at scott.wilander@opm.gov.

Office of Personnel Management,
Tricia Hollis,
Chief of Staff & Director of External Affairs.

[FR Doc. E7-15164 Filed 8-6-07; 8:45 am]

BILLING CODE 6325-39-P